DEPARTMENT OF TRANSPORTATION

Office of the Secretary

Applications for Certificates of Public Convenience and Necessity and Foreign Air Carrier Permits Under Subpart B; Week Ending May 22, 2010

Notice of Applications for Certificates of Public Convenience and Necessity and Foreign Air Carrier Permits Filed Under subpart B (formerly subpart Q) during the Week Ending May 22, 2010. The following Applications for Certificates of Public Convenience and Necessity and Foreign Air Carrier Permits were filed under subpart B (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0126.

Date Filed: May 18, 2010.

Due Date for Answers, Conforming Applications, or Motion To Modify Scope: June 8, 2010.

Description: Application of Carlsbad-Palomar Airlines, Inc. requesting a certificate of public convenience and necessity to engage in scheduled interstate air transportation of persons, property and cargo.

Renee V. Wright,
Program Manager, Docket Operations, Federal Register Liaison.

[FR Doc. 2010-13656 Filed 6-7-10; 8:45 am]

BILLING CODE 4910-9X-P